DEPARTMENT OF TRANSPORTATION

Federal Highway Administration

Environmental Impact Statement: Brazoria and Galveston Counties, TX

AGENCY: Federal Highway Administration (FHWA), DOT.

ACTION: Notice of Intent.

SUMMARY: The FHWA is issuing this notice to advise the public that an environmental impact statement will be prepared for a proposed transportation project in Brazoria and Galveston Counties, Texas.

FOR FURTHER INFORMATION CONTACT: Mr. John Mack, P.E., Federal Highway Administration, Texas Division, 826 Federal Bldg., 300 East 8th Street, Austin, Texas 78701, Telephone 512-536-5960.

SUPPLEMENTARY INFORMATION: The FHWA, in cooperation with the Texas Department of Transportation (TxDOT) and The Grand Parkway Association, will prepare an environmental impact statement (EIS) for a proposal to upgrade the existing road network in Brazoria and Galveston Counties. The proposed improvement being considered, as shown in the Region's Long-Range Transportation Plan, is a multilane controlled access facility in northern Brazoria and Galveston counties which would be part of a third circumferential loop (State Highway 99) around Houston. The project length will be approximately 25 miles, depending on the alignment selected. Improvements in this area would alleviate congestion, improve traffic flow in the south and southeast Houston metropolitan area, and serve as an emergency (hurricane) evacuation route. The EIS will evaluate various transportation alternatives between State Highway 288 and Interstate Highway 45 (South). The majority of this corridor crosses relatively undeveloped properties in Brazoria and Galveston Counties. Alternatives to be studied include “No action” (the no-build alternative), Transportation System Management (TSM) alternative, mass transit alternative, and roadway build alternatives. Cities and towns in this region include Alvin, Manvel, Dickinson, Texas City, Friendswood, Iowa Colony, Santa Fe, League City, Liverpool, Pearland, and Houston. This study is authorized pursuant to the Texas Transportation Commission Minute Order No. 108543 issued June 28, 2001.

A public scoping meeting will be held on Thursday, September 12, 2002, at Alvin Community College, Nolan Ryan Center Community Room (R109), 2925 South Bypass 35, Alvin, Texas 77511, from 4 p.m. to 7 p.m. Large-scale maps of the project area will be displayed at the meeting. This will be the first in a series of meetings to solicit public comments on the proposed action.

The EIS will evaluate potential impacts from construction and operation of the proposed roadway including, but not limited to, the following: transportation impacts (construction detours, construction traffic, mobility improvement and evacuation route improvement), air and noise impacts from construction equipment and operation of the facility, water quality impacts from construction area and roadway storm water runoff, impacts to waters of the United States including wetlands from right of way encroachment, impacts to historic and archaeological resources, impacts to floodplains, and impacts to residents and businesses.

Letters describing the proposed action and soliciting comments will be sent to appropriate Federal, State and local agencies, and to private organizations and citizens who have previously expressed or are known to have interest in this proposal. To ensure that the full range of issues related to this proposed action are addressed and all significant issues identified, comments and suggestions are invited from all interested parties. Comments or questions concerning this proposed action and the EIS should be directed to the FHWA at the address provided above.

(Catalog of Federal Domestic Assistance Program Number 20.205 Highway Planning and Construction. The regulations implementing Executive Order 12372 regarding governmental consultation on Federal programs and activities apply to this program.)
Issued: August 1, 2002.
John R. Mack,
District Engineer.

[FR Doc. 02-20138 Filed 8-8-02; 8:45 am]

BILLING CODE 4910-22-M